FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 018946N.

Name: AMF Global Transportation, Inc.

Address: 2681 Coyle Ave., Elk Grove Village, IL 60007.

Date Revoked: May 31, 2006.

Reason: Failed to maintain a valid bond.

License Number: 019248N.

Name: Allcargo Net, Inc.

Address: 1900 NW. 97th Ave., Miami, FL 33172.

Date Revoked: June 11, 2006.

Reason: Failed to maintain a valid bond.

License Number: 018140NF.

Name: Commonwealth Custom Broker, Inc. dba C.C.B. Logistics dba C.C.B. Terminal.

Address: 8100 NW. 29th Street, Miami, FL 33122.

Date Revoked: June 12, 2006.

Reason: Failed to maintain valid bonds.

License Number: 006062N.

Name: Container Innovations Inc.

Address: 123 Pennsylvania Ave., Kearny, NJ 07032.

Date Revoked: June 14, 2006.

Reason: Failed to maintain a valid bond.

License Number: 001417F.

Name: Interconex Transport International, Inc.

Address: 8401 Westland West Blvd., Houston, TX 77041-1208.

Date Revoked: June 26, 2006.

Reason: Surrendered license voluntarily.

License Number: 015316N.

Name: JCL Consolidators, Inc.

Address: 8705 NW. 100 Street, Medley, FL 33178.

Date Revoked: June 21, 2006.

Reason: Failed to maintain a valid bond.

License Number: 003537F.

Name: Jet-Mar, Corp.

Address: 10871 NW. 33rd Street, Miami, FL 33172.

Date Revoked: June 14, 2006.

Reason: Failed to maintain a valid bond.

License Number: 016671F.

Name: Lee Ann Tyus dba Lee Ann Tyus Maritime Services.

Address: 9648 Bailey Road, Cornelius, NC 28031.

Date Revoked: June 14, 2006.

Reason: Failed to maintain a valid bond.

License Number: 004257N.

Name: Road Runner International, Inc. dba International Delivery Systems.

Address: 1021 Stuyvesant Ave., Union, NJ 07083.

Date Revoked: June 11, 2006.

Reason: Failed to maintain a valid bond.

License Number: 008404NF.

Name: Ultimate Media Express Inc.

Address: 182-08 149th Ave., Springfield Gardens, NY 11413.

Date Revoked: June 29, 2006.

Reason: Failed to maintain valid bonds.

Sandra L. Kusumoto,
Director, Bureau of Certification and Licensing.

[FR Doc. E6-10931 Filed 7-11-06; 8:45 am]

BILLING CODE 6730-01-P